DEPARTMENT OF AGRICULTURE

Forest Service

Tuolumne County Resource Advisory Committee

AGENCY: Forest Service, USDA.

ACTION: Notice of meeting.

SUMMARY: The Tuolumne County Resource Advisory Committee will meet on August 15, 2005, at the City of Sonora Fire Department, in Sonora, California. The purpose of the meeting is to review carryover funds and allocation amounts, identify projects requiring grant administration costs, and identify projects meeting section 204(f) requirements.

DATES: The meeting will be held August 15, 2005, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370. (209) 532-3671; e-mail pkauner@fs.fed.us.

SUPPLEMENTARY INFORMATION: Agenda items to be covered include: (1) Review allocation and carryover amounts; (2) identify projects requiring grant administration costs; (3) identify projects meeting Section 204(f) requirements; (4) general discussion/dialogue about projects; (5) dot voting, dialogue, vote; and (6) public comment on meeting proceedings. This meeting is open to the public.

Dated: August 2, 2005.
Jerome E. Perez,
Deputy Forest Supervisor.

[FR Doc. 05-15582 Filed 8-5-05; 8:45 am]

BILLING CODE 3410-ED-M